DEPARTMENT OF THE INTERIOR

Bureau of Land Management

[ID-110-5410-08-FR-D058; DBG-08-1012; IDI-36199]

Notice of Realty Action: Application for Conveyance of Federal Mineral Interests, Washington County, ID

AGENCY: Bureau of Land Management, Interior.

ACTION: Notice of application.

SUMMARY: The surface owner of the lands described in this notice, aggregating approximately 1,250 acres, has filed an application for the purchase of the federally-owned mineral interests in the lands. Publication of this notice temporarily segregates the mineral interest from appropriation under the public land laws, including the mining law.

DATES: Interested persons may submit written comments to the Bureau of Land Management (BLM) at the address stated below. Comments must be received no later than October 20, 2008.

Comments: Before including your address, phone number, e-mail address, or other personal identifying information in your comment, you should be aware that your entire comment—including your personal identifying information—may be made publicly available at any time. If you wish to withhold your name or address from public review or from disclosure under the Freedom of Information Act, you must clearly state this at the beginning of your written comment. While you can ask us in your comment to withhold your personal identifying information from public review, we cannot guarantee that we will be able to do so. The BLM will honor requests for confidentiality on a case-by-case basis to the extent allowed by law. All submissions from organizations or businesses, and from individuals identifying themselves as representatives or officials of organizations or businesses, will be made available for public inspection in their entirety. All persons who wish to present comments, suggestions, or objections in connection with the pending application may do so by writing to Rosemary Thomas, Four Rivers Field Manager, at the following address.

ADDRESSES: Bureau of Land Management, Boise District Office, 3948 Development Avenue, Boise, ID 83705.

FOR FURTHER INFORMATION CONTACT: Effie Schultsmeier, Realty Specialist, at the above address or at 208-384-3357.

SUPPLEMENTARY INFORMATION: The surface owner of the following described lands has filed an application pursuant to section 209 of the Federal Land Policy and Management Act of 1976, 43 U.S.C. 1719(b), for the purchase and conveyance of the Federally-owned mineral interest in the following described lands:

Boise Meridian, Washington County, Idaho

T. 6 N., R. 5 W.,

Sec. 13, SW¼SW¼; Sec. 14, SE¼SW¼, S½SE¼; Sec. 15, SE¼SE¼; Sec. 23, N½, NE¼SW¼, N½SE¼, N½NW¼NW¼SW¼, S½SW¼NW¼SW¼, E½NW¼SW¼, N½SE¼SW¼, N½SW¼SE¼; Sec. 24, W½NW¼, W½NW¼SW¼.

Total Acres 1,250.00, more or less.

Effective immediately, the BLM will process the pending application in accordance with the regulations stated in 43 CFR part 2720. Written comments concerning the application must be received no later than the date specified above in this notice. The purpose for a purchase and conveyance is to allow consolidation of surface and subsurface minerals ownership where (1) there are no known mineral values or (2) in those instances where the Federal mineral interest reservation interferes with or precludes appropriate nonmineral development and such development is a more beneficial use of the land than the mineral development.

On September 3, 2008, the mineral interests owned by the United States in the above described lands will be segregated to the extent that they will not be subject to the appropriation under the public land laws, including the mining laws. The segregative effect shall terminate upon issuance of a patent or deed of such mineral interest; upon final rejection of the mineral conveyance application; or September 3, 2010, whichever occurs first.

Authority: 43 CFR 2720.1-1(b).

Rosemary Thomas,
Four Rivers Field Manager.

[FR Doc. E8-20336 Filed 9-2-08; 8:45 am]

BILLING CODE 4310-GG-P